FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington, DC 20551-0001, not later than October 15, 2019.

A. Federal Reserve Bank of Chicago (Colette A. Fried, Assistant Vice President) 230 South LaSalle Street, Chicago, Illinois 60690-1414:

1. Michael C. Martin Gift Trust, Kristine M.P. Martin and William S. Martin as co-trustees; the William S. Martin Gift Trust, Jeanne Anna Kelso and William C. Martin as co-trustees; the William C. Martin GRAT Remainder Trust fbo William S. Martin, William C. Martin as trustee; the William C. Martin GRAT Remainder Trust fbo Michael C. Martin, William C. Martin as trustee; the William C. Martin 2019 Grantor Retained Annuity Trust #1, William C. Martin as trustee; and the William C. Martin 2019 Grantor Retained Annuity Trust #2, William C. Martin as trustee, all of Ann Arbor, Michigan; to be approved as members acting in concert with the Martin Family Control Group, to retain and acquire voting shares of Arbor Bancorp, Inc., parent holding company of Bank of Ann Arbor, both of Ann Arbor, Michigan.

2. David A. Albin; and David A. Albin, as general partner of MJD Family Investments Limited Partnership and DAA Investments, L.P., all of Newman, Illinois; as a group acting in concert, to retain voting shares of Longview Capital Corporation, Newman, Illinois, parent holding company of Longview Bank, Ogden, Illinois; Longview Bank & Trust, Chrisman, Illinois; and Bank of Gibson City, Gibson City, Illinois.

Board of Governors of the Federal Reserve System, September 23, 2019.
Yao-Chin Chao,
Assistant Secretary of the Board.

[FR Doc. 2019-20919 Filed 9-25-19; 8:45 am]

BILLING CODE P